DEPARTMENT OF DEFENSE

Department of the Air Force

[Docket ID: USAF-2024-HQ-0008]

Proposed Collection; Comment Request

AGENCY: Department of the Air Force, Department of Defense (DoD).

ACTION: 60-Day information collection notice.

SUMMARY: In compliance with the Paperwork Reduction Act of 1995, the Department of the Air Force, DoD announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by November 12, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to RAF Mildenhall Integrated Resilience Office, Unit 4890 Box 210 APO AE 09459-500, Charity Rose, 314-238-2163.

SUPPLEMENTARY INFORMATION:

Title; Associated Form; and OMB Number: RAF Mildenhall Stress Survey; OMB Control Number 0701-RAFM.

Needs and Uses: In order to better understand the stressors to the RAF Mildenhall community, a survey that helps identify potential stressors is being developed. The survey will be accessible to Service Members, Civilians, Local National Direct Hires, and Spouses. The results will be used internally to improve current community programs, help develop new community programs, and/or help focus resources to areas of greater need.

Affected Public: Individuals or households (Service Members, Civilians, Local National Direct Hires, Spouses).

Annual Burden Hours: 84.

Number of Respondents: 1,013.

Responses per Respondent: 1.

Annual Responses: 1,013.

Average Burden per Response: 5 minutes.

Frequency: Annually.

Dated: September 4, 2024.
Aaron T. Siegel,
Alternate OSD Federal Register Liaison Officer, Department of Defense.

[FR Doc. 2024-20648 Filed 9-11-24; 8:45 am]

BILLING CODE 6001-FR-P